DEPARTMENT OF THE INTERIOR

Bureau of Land Management

[MT-030-1320-EL, MTM 94378]

Notice of Federal Competitive Coal Lease Sale, Montana

AGENCY: Bureau of Land Management, Interior.

ACTION: Notice of Competitive Coal Lease Sale, lease application MTM 94378.

SUMMARY: Notice is hereby given that the United States Department of Interior (DOI), Bureau of Land Management (BLM), Montana State Office, will offer coal reserves in the lands described below in Big Horn County, Montana, hereinafter described as Federal coal lease application (LBA) MTM 94378 for competitive lease by sealed bid in accordance with the provisions for competitive lease sales in 43 CFR part 3422.2(a), and the Mineral Leasing Act of 1920, as amended and supplemented (30 U.S.C. 181 et seq.)

DATES: The lease sale will be held at 11 a.m., Tuesday, April 17, 2007. Sealed bids must be sent by certified mail, return receipt requested, or be hand delivered to the address indicated below, and must be received on or before 10 a.m., April 17, 2007.

ADDRESSES: The lease sale will be held in the BLM Montana State Office, 920 Conference Room, 5001 Southgate Drive, Billings, Montana 59101-4669. Sealed bids clearly marked “Sealed Bid for MTM 94378 Coal Sale—Not to be opened before 11 a.m., Tuesday, April 17, 2007” must be submitted to the Cashier, BLM Montana State Office, at the address given above. The cashier will issue a receipt for each hand delivered sealed bid. Any bid received after the time specified will not be considered and will be returned.

FOR FURTHER INFORMATION CONTACT: Connie Schaff, Land Law Examiner, or Rebecca Spurgin, Coal Coordinator, at 406-896-5060 or 406-896-5080, respectively.

SUPPLEMENTARY INFORMATION: This sale is being held in response to a LBA filed by Spring Creek Coal Company on March 7, 2005. All coal LBAs submitted to BLM for processing prior to November 7, 2005, are not subject to cost recovery on a case-by-case basis (See 43 CFR 3000.10(d)(1), 70 FR 58872, October 7, 2005). The Federal coal resource to be offered consists of all recoverable reserves in the following described lands:

Tract 1:

T. 8 S., R. 39 E., P.M.M.

Sec. 13: SW¼NW¼NW¼, SW¼NW¼, SW¼SE¼NW¼, N½SW¼, N½SW¼SW¼, N½SE¼SW¼SW¼, SE¼SE¼SW¼SW¼, SE¼SW¼, NW¼NW¼SE¼, S½NW¼SE¼, N½SW¼SE¼, SW¼SW¼SE¼

Sec. 14: Beginning at a point bearing S. 60°25′06″ E., 2299.67 feet from the section corner of sections. 10, 11, 14, and 15 and on the N-S center line of the NE¼NW¼ of section 14 and at 528.30 feet southerly from the NE-NW1/64 section corner of section 14; thence on the exclusion boundary line, S. 90°00′00″ E., 317.70 feet; thence S. 55°21′33″ E., 1741.06 feet; thence N. 38°32′16″ E., 1422.65 feet, to a point on the N-S center line of the NE¼NE¼ of said section; thence northerly on the N-S center line of the NE¼NE¼ of said section to the NE-NE1/64 section corner of said section; thence easterly on the E-W center line of the NE¼NE¼ of said section to the N-N1/64 section corner of sections 13 and 14; thence southerly on the section line between sections 13 and 14 to the N-S-S1/256 section corner of sections 13 and 14; thence westerly on the E-W center line of the NE¼SE¼SE¼ of section 14 to the NE-SE-SE1/256 section corner of said section; thence northerly on the N-S center line of the NE¼SE¼SE¼ of said section to the C-E-E-SE1/256 section corner of said section, on the E-W center line of the SE¼ of said section; thence westerly on the E-W center line of the SE¼ of said section to the C-E-SE1/64 section corner of said section; thence northerly on the N-S center line of the NE¼SE¼ of said section to the C-S-NE-SE1/256 section corner of said section; thence westerly on the E-W center line of the SE¼NE¼SE¼ of said section to the C-S-N-SE1/256 section corner of said section; thence northerly on the N-S center line of the SE¼ of said section to the C-E1/16 section corner of said section; thence westerly on the E-W center line of said section to the C¼ section corner of said section; thence northerly on the N-S center line of said section to the C-S-N1/64 section corner of said section; thence westerly on the E-W center line of the S½ of the NW¼ of said section to the SW-NW1/64 section corner of said section; thence northerly on the N-S center line of the SW¼NW¼ of said section to the C-W-NW1/64 section corner of said section; thence easterly on the E-W center line of the NW¼ of said section to the C-E-NW1/64 section corner of said section; thence northerly on the N-S center line of the NE¼NW¼ of said section to the point of beginning, containing 137.70 acres, more or less.

Sec. 24: N½NE¼NW¼

Total: 425.2 acres

Tract 2:

T. 8 S., R. 39 E., P.M.M.

Sec. 15: W½SW¼SE¼, SE¼SW¼SE¼

Sec. 22: NE¼NE¼, N½NW¼NE¼, SE¼NW¼NE¼, NE¼SE¼NE¼, NE¼NE¼NW¼

Sec. 23: SW¼SW¼NW¼NE¼, S½N½NW¼, S½NW¼

Total: 242.5 acres

Tract 3:

T.8S., R. 39E., P.M.M.

Sec. 25: SW¼SW¼

Sec. 26: SW¼NE¼NE¼SW¼, W½NW¼NE¼SW¼, SE¼NW¼NE¼SW¼, S½NE¼SW¼, NW¼SW¼, N½SE¼SW¼, S½NW¼SE¼, S½SE¼

Sec. 27: SW¼NW¼SE¼NE¼, S½SE¼NE¼, NW¼NE¼SW¼NE¼, S½NE¼SW¼NE¼, W½SW¼NE¼, SE¼SW¼NE¼, E½SE¼NW¼, N½NE¼SE¼, SE¼NE¼SE¼, NE¼NW¼SE¼

Total: 350.0 acres

Tract 4

T. 8 S., R. 40 E., P.M.M.

Sec. 30: S½NW¼SE¼, S½SE¼

Total: 100.0 acres

Containing approximately 1,117.700 acres in Big Horn County, Montana.

The LBA's total recoverable coal reserves are estimated to be 108.6 million tons (averaging 79.5 feet in thickness) and the average overburden depth is 234.2 feet.

The estimated coal quality on an as-received basis is as follows:

BTU | 9,331 BTU/lb.
Volatile Matter | 32.02
Fixed Carbon | 38.53
Moisture | 25.71
Sulphur Content | 0.35
Ash Content | 3.80
Sodium | 8.38

The tracts will be leased to the qualified bidder of the highest cash amount, provided that the high bid meets or exceeds the BLM's pre-sale estimate of fair market value (FMV). No bid that is less than $100 per acre, or fraction thereof, will be considered. The DOI has established a minimum bid of $100 per acre or fraction thereof for Federal coal tracts. The minimum bid is not intended to represent FMV. The FMV will be determined by the BLM after the sale. In the event identical high sealed bids are received, the tying high bidders will be requested to submit follow-up bids until a high bid is received. All tie-breaking sealed-bids must be submitted within 15 minutes following the Sale Official's announcement at the sale that identical high bids have been received.

A lease issued as a result of this offering will provide for payment of an annual rental of $3 per acre, or fraction thereof; and a royalty payable to the United States of 12.5 percent of the value of coal mined by surface methods and 8.0 percent of the value of coal mined by underground methods. The value of the coal will be determined in accordance with 30 CFR 206.250.

Bidding instructions for the tracts offered and the terms and conditions of the proposed coal lease are included in the Detailed Statement of Lease Sale. Copies of the Detailed Statement and the proposed coal lease are available at the Montana State Office at the address given above. Casefile MTM 94378 is available for inspection at the Montana State Office during normal business hours at the address above.

Dated: February 22, 2007.
Randy D. Heuscher,
Chief of Solid Minerals.

[FR Doc. E7-5883 Filed 3-29-07; 8:45 am]

BILLING CODE 4310-DK-P